DEPARTMENT OF COMMERCE

International Trade Administration

[C-489-819]

Steel Concrete Reinforcing Bar From the Republic of Turkey: Final Results and Partial Rescission of Countervailing Duty Administrative Review; 2014

AGENCY: Enforcement and Compliance, International Trade Administration, Department of Commerce.

SUMMARY: The Department of Commerce (the Department) has completed its administrative review of the countervailing duty (CVD) order on steel concrete reinforcing bar (rebar) from the Republic of Turkey (Turkey). The period of review (POR) is September 15, 2014, through December 31, 2014. This review covers 12 producers/exporters of subject merchandise, two of which the Department selected for individual examination: Icdas Celik Enerji Tersane ve Ulasim Sanayi A.S. (Icdas) and Kaptan Demir Celik Endustrisi ve Ticaret A.S. and Kaptan Metal Dis Ticaret ve Nakliyat A.S. (Kaptan Demir Companies) (collectively, the mandatory respondents). The ten firms that were not individually examined are included in the chart under the Final Results of Review section, below.

We find that the mandatory respondents each received a de minimis net subsidy rate during the POR. See “Final Results of Review” section of this notice below for the rates calculated for the companies covered in this review.

DATES: Effective June 12, 2017.

FOR FURTHER INFORMATION CONTACT: Kristen Johnson (Icdas) and Samuel Brummitt (Kaptan Demir Companies), AD/CVD Operations, Office III, Enforcement and Compliance, International Trade Administration, U.S. Department of Commerce, 1401 Constitution Avenue NW., Washington, DC 20230; telephone (202) 482-4793, and (202) 482-7851, respectively.

Scope of the Order

The scope of the order consists of steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. While HTSUS subheadings are provided for convenience and customs purposes, the written description of the scope of this Order is dispositive.¹

¹ See Steel Concrete Reinforcing Bar from the Republic of Turkey: Countervailing Duty Order, 79 FR 65926 (November 6, 2014) (the Order). For a full description of the scope of this order see Memorandum, “Decision Memorandum for Final Results of Countervailing Duty 2014 Administrative Review: Steel Concrete Reinforcing Bar from the Republic of Turkey,” dated concurrently with, and hereby adopted by this notice (Issues and Decision Memorandum).

Analysis of Comments Received

All issues raised in interested parties' briefs are addressed in the Issues and Decision Memorandum. A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at https://access.trade.gov and in the Central Records Unit, room B8024 of the main Department of Commerce building. In addition, a complete version of the Issues and Decision Memorandum can be accessed directly at http://enforcement.trade.gov/frn/. The signed and electronic versions of the Issues and Decision Memorandum are identical in content.

Methodology

The Department conducted this administrative review in accordance with section 751(a)(1)(A) of the Tariff Act of 1930, as amended (the Act). For each of the subsidy programs found countervailable, we determine that there is a subsidy, i.e., a government-provided financial contribution that gives rise to a benefit to the recipient, and that the subsidy is specific.² For a full description of the methodology underlying all of the Department's conclusions, see the Issues and Decision Memorandum.

² See sections 771(5)(B) and (D) of the Act regarding financial contribution; section 771(5)(E) of the Act regarding benefit; and section 771(5A) of the Act regarding specificity.

Partial Rescission of Review

Entries of merchandise produced and exported by Habas Sinai ve Tibbi Gazlar Istihsal Endustrisi A.S. (Habas) are not subject to countervailing duties because the Department's final determination with respect to this producer/exporter combination was negative.³ However, as stated in the Initiation Notice, any entries of merchandise produced by any other entity and exported by Habas, or produced by Habas and exported by another entity, are subject to the Order.⁴

³ See Steel Concrete Reinforcing Bar from the Republic of Turkey: Final Affirmative Countervailing Duty Determination Final Affirmative Critical Circumstances Determination, 79 FR 54963, 54964 (September 15, 2014).

⁴ See Initiation of Antidumping and Countervailing Duty Administrative Reviews, 81 FR 736, 740 (at footnote 4) (January 7, 2016) (Initiation Notice).

Because there is no evidence on the record of entries of merchandise produced by another entity and exported by Habas, or entries of merchandise produced by Habas and exported by another entity, we determine that Habas is not subject to this administrative review. Therefore, pursuant to 19 CFR 351.213(d)(3), we are rescinding the review with respect to Habas.

Final Results of Review

In accordance with 19 CFR 351.221(b)(5), we determine the following net countervailable subsidy rates for the period September 15, 2014, through December 31, 2014:

⁵ The name of Tata Steel UK was incorrectly spelled in the Initiation Notice. The company's name was inadvertently listed as “Tata Steel U.” See Initiation Notice, 81 FR at 740.

Company | Subsidy rate ad valorem (percent)
Icdas Celik Enerji Tersane ve Ulasim Sanayi A.S | * 0.01
Kaptan Demir Celik Endustrisi ve Ticaret A.S. and Kaptan Metal Dış Ticaret ve Nakliyat A.S | * 0.02
3212041 Canada Inc | 0.00
Acemar International Limited | 0.00
As Gaz Sinai ve Tibbi Azlar A.S | 0.00
Colakoglu Dis Ticaret A.S. (also known as Colakoglu Disticaret AS) | 0.00
Colakoglu Metalurji A.S | 0.00
Del Industrial Metals | 0.00
Izmir Demir Celik Sanayi A.S | 0.00
Ozkan Demir Celik Sanayi A.S | 0.00
Tata Steel International (Hong Kong) Limited (also known as Tata Steel International (Hong Kong)) | 0.00
Tata Steel UK ⁵ | 0.00
* de minimis.

In accordance with the U.S. Court of Appeals for the Federal Circuit's decision in Albemarle Corp. v. United States,⁶ we are applying to the non-selected companies the rates calculated for the mandatory respondents, which are de minimis.

⁶ See Albemarle Corp. v. United States, 821 F.3d 1345 (Fed. Cir. May 2, 2016).

Disclosure

We will disclose to the parties in this proceeding the calculations performed for these final results within five days of the date of publication of this notice in the Federal Register.⁷

⁷ See 19 CFR 351.224(b).

Assessment and Cash Deposit Requirements

In accordance with 19 CFR 351.212(b)(2), the Department intends to issue assessment instructions to U.S. Customs and Border Protection (CBP) 15 days after the date of publication of these final results of review to liquidate shipments of subject merchandise entered, or withdrawn from warehouse, for consumption on or after September 15, 2014, through December 31, 2014, without regard to countervailing duties because a de minimis subsidy rate was determined for each of the above listed companies.

The Department also intends to instruct CBP to collect cash deposits of zero percent for each company listed on shipments of the subject merchandise entered or withdrawn from warehouse, for consumption on or after the date of publication of the final results of this review. For all non-reviewed firms, we will instruct CBP to collect cash deposits of estimated countervailing duties at the most recent company-specific or all others rate applicable to the company, as appropriate. These cash deposit requirements, when imposed, shall remain in effect until further notice.

Return or Destruction of Proprietary Information

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

We are issuing and publishing these final results of review in accordance with sections 751(a)(1) and 777(i)(1) of the Act, 19 CFR 351.213(d)(4) and 19 CFR 351.221(b)(5).

Dated: June 6, 2017.
Ronald K. Lorentzen,
Acting Assistant Secretary for Enforcement and Compliance.

APPENDIX

List of Topics Discussed in the Issues and Decision Memorandum

I. Summary

II. Background

III. List of Comments

IV. Scope of the Order

V. Subsidies Valuation Information

VI. Analysis of Programs

A. Programs Determined To Be Countervailable

1. Rediscount Program

2. Assistance To Offset Costs Related To AD/CVD Investigations

B. Programs Determined To Not Be Countervailable

1. Purchase of Electricity for More Than Adequate Remuneration (MTAR)—Sales on the Grid

2. Purchase of Electricity for MTAR—Sales to Public Buyers

C. Program Determined To Not Be Countervailable For a Respondent

1. Provision of Natural Gas for Less Than Adequate Remuneration (LTAR)

D. Programs Determined To Not Confer Countervailable Benefits

1. Reduction and Exemption of Licensing Fees for Renewable Resource Power Plants

2. Investment Incentive Certificates

E. Programs Determined To Not Be Used

1. Purchase of Electricity for MTAR—Sales via Build-Operate-Own, Build-Operate-Transfer, and Transfer of Operating Rights Contracts

2. Provision of Lignite for LTAR

3. Purchase of Electricity Generated From Renewable Resources for MTAR

4. Deductions From Taxable Income for Export Revenue

5. Research and Development Grant Program

6. Export Credits, Loans, and Insurance From Turk Eximbank

a. Pre-Shipment Export Credits

b. Foreign Trade Company Export Loans

c. Pre-Export Credits

d. Short-Term Export Credit Discount Program

e. Export Insurance

7. Regional Investment Incentives

a. Value Added Tax (VAT) and Customs Duty Exemptions

b. Income Tax Reductions

c. Social Security Support

d. Land Allocation

8. Large-Scale Investment Incentives

a. VAT and Customs Duty Exemptions

b. Tax Reduction

c. Income Tax Withholding Allowance

d. Social Security and Interest Support

e. Land Allocation

9. Strategic Investment Incentives

a. VAT and Customs Duty Exemptions

b. Tax Reduction

c. Income Tax Withholding Allowance

d. Social Security and Interest Support

e. Land Allocation

f. VAT Refunds

10. Incentives for Research & Development (R&D) Activities

a. Tax Breaks and Other Assistance

b. Product Development R&D Support—UFT

11. Regional Development Subsidies

a. Provision of Land for LTAR

b. Provision of Electricity for LTAR

c. Withholding of Income Tax on Wages and Salaries

d. Exemption From Property Tax

e. Employers' Share in Insurance Premiums

f. Preferential Tax Benefits for Turkish Rebar Producers Located in Free Zones

g. Preferential Lending to Turkish Rebar Producers Located in Free Zones

h. Exemptions From Foreign Exchange Restrictions to Turkish Rebar Producers Located in Free Zones

i. Preferential Rates for Land Rent and Purchase to Turkish Rebar Producers Located in Free Zones

VII. Analysis of Comments

Comment 1: Whether the Purchase of Electricity for MTAR Is Countervailable

Comment 2: Whether the Department Should Countervail the Provision of Lignite for LTAR

Comment 3: Whether the Department Should Countervail the Provision of Natural Gas for LTAR

Comment 4: Whether the Assistance to Offset Costs Related to AD/CVD Investigation Is Countervailable

Comment 5: Whether the Department Should Have Required a Response From Kaptan Demir's Cross-Owned Power Producer

VIII. Conclusion

[FR Doc. 2017-12108 Filed 6-9-17; 8:45 am]

BILLING CODE 3510-DS-P